DEPARTMENT OF DEFENSE

Department of the Navy

Department of the Navy Science and Technology Board; Notice of Federal Advisory Committee Meeting

AGENCY: Department of the Navy (DoN), Department of Defense (DoD).

ACTION: Notice of Federal advisory committee meeting.

SUMMARY: The DoD is publishing this notice to announce that the following Federal Advisory Committee meeting of the Department of the Navy Science and Technology Board (DON STB) will take place.

DATES: A partially closed meeting will be held on Friday, September 22, 2023 from 9:30 a.m. to 1:00 p.m. Eastern Time Zone (ET).

ADDRESSES: The partially closed meeting will be held at the Pentagon.

FOR FURTHER INFORMATION CONTACT: Ms. Maria Proestou, Designated Federal Officer (DFO), Office of the Assistant Secretary of the Navy (Research, Development & Acquisition), Pentagon, Washington, DC 20350-1000, 703-614-3560, donstb.fct@navy.mil.

SUPPLEMENTARY INFORMATION: This meeting is being held under the provisions of chapter 10 of title 5 U.S.C. (commonly known as the Federal Advisory Committee Act (FACA), the Government in the Sunshine Act of 1976 (5 U.S.C. 552b, as amended), title 41 Code of Federal Regulations (CFR) 102-3.140 and 102-3.150 and covered by 5 U.S.C. 552b(c)(l). Due to circumstances beyond the control of the Designated Federal Officer, the Department of the Navy Science and Technology Board was unable to provide public notification required by 41 CFR 102-3.150(a) concerning its September 22, 2023 meeting. Accordingly, the Advisory Committee Management Officer for the Department of Defense, pursuant to 41 CFR 102-3.150(b), waives the 15-calendar day notification requirement.

Purpose of the Meeting: The purpose of the meeting will be a swear-in ceremony hosted by Secretary of the Navy (SECNAV) for all new Board members. There will also be discussion on matters relating to the DoN's scientific and technical processes that have been tasked by the Secretary of the Navy.

Agenda: On September 22, 2023, SECNAV will be administering the oath of office to the new Board members. SECNAV will also be tasking the Board with topics to study so the Board can make their recommendations to the Department and provide guidance on the Department's priorities and key operational problems in regards to science and technology. There will then be classified discussions on the topics that are tasked by SECNAV and strategy briefings to follow.

Availability of Materials for the Meeting: A copy of the agenda or any updates to the agenda for the September 22, 2023 meeting, as well as supporting documents, can be found on the website: https://www.facadatabase.gov.

Meeting Accessibility: Pursuant to section 552b(c)(l) of 5 U.S.C., this meeting will be partially closed to the public. If there are any questions or concerns, please send them to donstb.fct@navy.mil no later than Tuesday, September 11, 2023.

Written Statements: Pursuant to 41 CFR 102-3.105 and 102-3.140, and section 1009(a)(3) of title 5 U.S.C., written statements to the committee may be submitted at any time or in response to a stated planned meeting agenda by email to donstb.fct@navy.mil with the subject line, “Comments for DON STB Meeting.”

Dated: September 6, 2023.
J.E. Koningisor,
Lieutenant Commander, Judge Advocate General's Corps, U.S. Navy, Federal Register Liaison Officer.

[FR Doc. 2023-19492 Filed 9-8-23; 8:45 am]

BILLING CODE 3810-FF-P